COMMODITY FUTURES TRADING COMMISSION

Meetings; Sunshine Act

AGENCY holding the meeting: Commodity Futures Trading Commission.

Sunshine Act Meetings

time and date: 11 a.m., Friday, March 10, 2006.

place: 1155 21st. St., NW., Washington, DC, 9th Floor Commission Conference Room.

status: Closed.

matters to be considered: Surveillance Matters.

for further information contact: Jean A. Webb, (202) 418-5100.

Jean A. Webb,
Secretary of the Commission.

[FR Doc. 06-1660 Filed 2-17-06; 11:09 am]

BILLING CODE 6351-01-M